DEPARTMENT OF COMMERCE

National Oceanic and Atmospheric Administration

Federal Consistency Appeal by Islander East Pipeline Company From an Objection by the Connecticut Department of Environmental Protection

AGENCY: National Oceanic and Atmospheric Administration (NOAA), Department of Commerce (Commerce).

ACTION: Notice of closure—administrative appeal decision record.

SUMMARY: This announcement provides notice that the decision record has been closed for an administrative appeal filed with the Department of Commerce by the Islander East Pipeline Company (Consistency Appeal of Islander East Pipeline Company, L.L.C.).

DATES: The decision record for the Islander East Pipeline Company's administrative appeal was closed on April 15, 2004.

ADDRESSES: Materials from the appeal record are available at the Internet site http://www.ogc.doc.gov/czma.htm and at the Office of the General Counsel for Ocean Services, National Oceanic and Atmospheric Administration, U.S. Department of Commerce, 1305 East-West Highway, Silver Spring, MD 20910.

FOR FURTHER INFORMATION CONTACT: Branden Blum, Senior Counselor, Office of the General Counsel, via e-mail at gcos.inquiries@noaa.gov, or at (301) 713-2967, extension 207.

SUPPLEMENTARY INFORMATION: In November 2002, the Islander East Pipeline Company, L.L.C. (Islander East or Appellant) filed a notice of appeal with the Secretary of Commerce (Secretary) pursuant to section 307(c)(3)(A) of the Coastal Zone Management Act of 1972 (CZMA), as amended, 16 U.S.C. 1451 et seq., and the Department of Commerce's implementing regulations, 15 CFR part 930, subpart H. The appeal was taken from an objection by the Connecticut Department of Environmental Protection (State) to Islander East's consistency certification for U.S. Army Corps of Engineers and Federal Energy Regulatory Commission permits to construct and operate a natural gas pipeline spanning approximately 44 miles from North Haven, Connecticut, to Suffolk County (Long Island), New York. The certification indicates that the project is consistent with Connecticut's coastal management program. The project would cross portions of the Long Island Sound, affecting the natural resources or land and water uses of Connecticut's coastal zone.

The Appellant requested the Secretary to override the State's consistency objection on the two substantive grounds provided in the CZMA. The first ground requires the Secretary to determine that the proposed activity is “consistent with the objectives” of the CZMA. The second substantive ground for overriding a State's objection considers whether the proposed activity is “necessary in the interest of national security.” Decisions for CZMA administrative appeals are based on information contained in a decision record. The Islander East appeal decision record includes materials submitted by the parties, the public and interested Federal agencies, and was closed on April 15, 2004. It is expected that no further information, briefs or comments will be considered in deciding this appeal.

The CZMA requires that a notice be published in the Federal Register indicating the date on which the decision record has been closed. 16 U.S.C. 1465(a). A final decision of the Islander East appeal is to be issued no later than 90 days after the date of the publication of this notice. 16 U.S.C. 1465(a)(1). The deadline may be extended by publishing (within the 90-day period) a subsequent notice explaining why a decision cannot be issued within the time frame. 16 U.S.C. 1465(a)(2). In this event, a final decision is to be issued no later than 45 days after the date of publication of the subsequent notice. 16 U.S.C. 1465(b).

Additional information about the Islander East appeal and the CZMA appeals process is available from the Department of Commerce CZMA appeals Web site http://www.ogc.doc.gov/czma.htm.

[Federal Domestic Assistance Catalog No. 11.419 Coastal Zone Management Program Assistance.]
Dated: April 15, 2004.
James R. Walpole,
General Counsel.

[FR Doc. 04-8955 Filed 4-15-04; 4:15 pm]

BILLING CODE 3510-08-P